DEPARTMENT OF TRANSPORTATION

Federal Aviation Administration

[Docket No. FAA-2020-0379]

Agency Information Collection Activities: Requests for Comments; Clearance of a New Approval of Information Collection: Operational Waivers for Small Unmanned Aircraft Systems

AGENCY: Federal Aviation Administration (FAA), DOT.

ACTION: Notice and request for comments.

SUMMARY: In accordance with the Paperwork Reduction Act of 1995, FAA invites public comments about our intention to request Office of Management and Budget (OMB) approval for a new information collection. The FAA proposes collecting information about requests for waivers from certain operational rules that apply to small unmanned aircraft systems (sUAS). The FAA will use the collected information to make determinations whether to authorize or deny the requested operations of sUAS. The proposed information collection is necessary to issue such authorizations or denials consistent with the FAA's mandate to ensure safe and efficient use of national airspace.

DATES: Written comments should be submitted by June 9, 2020.

ADDRESSES: Please send written comments:

By Electronic Docket: www.regulations.gov (Enter docket number into search field).

By mail: Dwayne C. Morris, 800 Independence Ave. SW, Washington, DC 20591.

By fax: (202) 267-1078.

FOR FURTHER INFORMATION CONTACT: Jeremy Grogan by email at: jeremy.grogan@faa.gov; phone: (405) 666-1187

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Operational Waivers for Small Unmanned Aircraft Systems.

Form Numbers: N/A (Online Portal).

Type of Review: New.

Background: The FAA has seen increased operations of small unmanned aircraft systems (sUAS) flying under 14 CFR part 107. Under 14 CFR 107.205, operators of small UAS may seek waivers from certain operational rules. The FAA is updating and modernizing the process for applying for such waivers using the DroneZone website. These improvements will facilitate the process of collecting and submitting the information required as part of a waiver application. The reporting burdens for operational waiver applications are currently covered by Information Collection Request (ICR) 2120-0768. As part of this effort, the FAA is creating a new ICR just for operational waiver applications. In order to process operational waiver requests, the FAA requires the operator's name, the operator's contact information, and information related to the date, place, and time of the requested small UAS operation. Additional information is required related to the proposed waiver and any necessary mitigations. The FAA will use the requested information to determine if the proposed UAS operation can be conducted safely. This information is necessary for the FAA to meet its statutory mandate of maintaining a safe and efficient national airspace. See 49 U.S.C. 40103, 44701 and 44708.

Respondents: sUAS Operators: 8,034 per year.

Frequency: On occasion. For requests for operational waivers, a respondent will need to provide the information once at the time of the request for the waiver. If granted, operational waivers may be valid for up to four (4) years.

Estimated Average Burden per Response: 0.65 hours per response.

Estimated Total Annual Burden: 5,222 hours.

Issued in Washington, DC, on April 7, 2020.
Dwayne C. Morris,
Project Manager, Flight Standards Service, General Aviation and Commercial Division.

[FR Doc. 2020-07604 Filed 4-9-20; 8:45 am]

BILLING CODE 4910-13-P